DEPARTMENT OF COMMERCE

International Trade Administration

[A-412-824]

Certain Cold-Rolled Steel Flat Products From the United Kingdom: Rescission of Antidumping Duty Administrative Review; 2018-2019

AGENCY: Enforcement and Compliance, International Trade Administration, Department of Commerce.

SUMMARY: The Department of Commerce (Commerce) is rescinding the administrative review of the antidumping duty order on certain cold-rolled steel flat products (CR Steel) from the United Kingdom (UK) for the period September 1, 2018, through August 31, 2019, based on the timely withdrawal of the request for review.

DATES: Applicable February 21, 2020.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On September 3, 2019, Commerce published a notice of opportunity to request an administrative review of the antidumping duty order on CR Steel from the UK for the period of review (POR) September 1, 2018, through August 31, 2019.¹ On September 30, 2019, the petitioners ² timely requested an administrative review of the antidumping duty order with respect to Liberty Performance Steels Ltd., and Tata Steel UK Ltd.³ On November 12, 2019, in accordance with section 751(a) of the Tariff Act of 1930, as amended (the Act) and 19 CFR 351.221(c)(1)(i), we initiated an administrative review of the order on CR Steel from the UK with respect to Liberty Performance Steels Ltd. and Tata Steel UK Ltd.⁴ On January 21, 2020, the petitioners timely withdrew their request for an administrative review of Liberty Performance Steels Ltd. and Tata Steel UK Ltd.⁵ Commerce received no other requests for an administrative review of this antidumping duty order.

¹ See Antidumping or Countervailing Duty Order, Finding, or Suspended Investigation; Opportunity to Request Administrative Review, 84 FR 45949 (September 3, 2019).

² The petitioners are AK Steel Corporation, Steel Dynamics Inc., Nucor Corporation, and United States Steel Corporation.

³ See the petitioners' Letter, “Cold-Rolled Steel Flat Products from the United Kingdom/Request For Administrative Review,” dated September 30, 2019.

⁴ See Initiation of Antidumping and Countervailing Duty Administrative Reviews, 84 FR 61011 (November 12, 2019) (Initiation Notice).

⁵ See the petitioners' Letter, “Cold-Rolled Steel Flat Products from the United Kingdom/Withdrawal Of Request For Administrative Review,” dated January 21, 2020.

Rescission of Review

Pursuant to 19 CFR 351.213(d)(1), Commerce will rescind an administrative review “in whole or in part, if a party that requested a review withdraws the request within 90 days of the date of publication of notice of initiation of the requested review.” The petitioners withdrew their request for review within 90-days of the publication date of the Initiation Notice. Because we received no other requests for review of Liberty Performance Steels Ltd. and Tata Steel UK Ltd., and no other requests for the review of the order on CR Steel from the UK with respect to other companies subject to the order, we are rescinding the administrative review of the order in its entirety, in accordance with 19 CFR 351.213(d)(1).

Assessment

Commerce intends to instruct U.S. Customs and Border Protection (CBP) to assess antidumping duties on all appropriate entries of CR Steel products from the UK during the POR at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: February 18, 2020.
James Maeder,
Deputy Assistant Secretary for Antidumping and Countervailing Duty Operations.

[FR Doc. 2020-03501 Filed 2-20-20; 8:45 am]

BILLING CODE 3510-DS-P